DEPARTMENT OF DEFENSE

Department of the Air Force

Notice is Given of the Names of Members of a Performance Review Board for the Department of the Air Force

AGENCY: Department of the Air Force.

ACTION: Notice.

SUMMARY: Notice is given of the names of members of a Performance Review Board for the Department of the Air Force.

DATES: Effective Date: November 16, 2009

SUPPLEMENTARY INFORMATION: Section 4314(c)(1) through (5) of Title 5, U.S.C., requires each agency to establish, in accordance with regulations, one or more Senior Executive Service performance review boards. The board(s) shall review and evaluate the initial appraisal of senior executives' performance by supervisors and make recommendations to the appointing authority or rating official relative to the performance of these executives.

The members of the 2009 Performance Review Board for the U.S. Air Force are:

1. Board President—Gen Roger A. Brady, USAFE/Air Component, Commander/Director Joint Air Competency Center.

2. Lt Gen Loren M. Reno, Commander, Deputy Chief of Staff, Logistics, Installations and Mission Support, Headquarters, United States Air Force.

3. Mr. Tim A. Beyland, Assistant Deputy Chief of Staff for Manpower and Personnel.

4. Dr. Steven F. Butler, Air Force Material Command, Executive Director.

5. Mr. Theodore Williams, Auditor General of the United States Air Force.

6. Ms. Tawanda R. Rooney, Director, Intelligence Systems Support Office.

7. Mr. Timothy K. Bridges, Director, Communications, Installations and Mission Support.

8. Ms. Mary Chris Puckett, Director Installations and Logistics.

9. Mr. Joseph McDade, Army.

10. Mr. Charlie E. Williams, Jr., Director, Defense Contract Management Agency.

11. Mr. Ray Longerbeam (Naval Program Support Activity).

Additionally, all career status Air Force Tier 3 SES members not included in the above list are eligible to serve on the 2009 Performance Review Board and are hereby nominated for inclusion on an ad hoc basis in the event of absence(s). In addition, Mr. Bobby W. Smart, Director, Policy Planning and Resources, United States Air Force and Ms. Audrey Y. Davis, Deputy Assistant Secretary, Financial Operations, United States Air Force are nominated for inclusion on an ad hoc basis for the Tier 2 Performance Review Board in the event of absence(s).

FOR FURTHER INFORMATION CONTACT: Please direct any written comments or requests for information to Ms. Pereuna Johnson, Chief, Sustainment Division, Senior Executive Management, AF/DPSS, 1040 Air Force Pentagon, Washington, DC 20330-1040 (PH: 703-695-7677; or via e-mail at pereuna.johnson@pentagon.af.mil).

Bao-Anh Trinh,
Air Force Federal Register Liaison Officer.

[FR Doc. E9-17809 Filed 7-24-09; 8:45 am]

BILLING CODE 5001-05-P